SECURITIES AND EXCHANGE COMMISSION

[File No. 500-1]

Order of Suspension of Trading; Earth Dragon Resources, Inc.

March 31, 2015.

It appears to the Securities and Exchange Commission that there is a lack of current and accurate information concerning the securities of Earth Dragon Resources, Inc. (“Earth Dragon”) because it has not filed a periodic report since it filed its Form 10-Q for the period ending August 31, 2011, filed on October 3, 2012. Earth Dragon's common stock (ticker “EARH”) is quoted on OTC Link (previously “Pink Sheets”) operated by OTC Markets Group, Inc.

The Commission is of the opinion that the public interest and the protection of investors require a suspension of trading in the securities of Earth Dragon.

Therefore, it is ordered, pursuant to Section 12(k) of the Securities Exchange Act of 1934, that trading in the securities of Earth Dragon is suspended for the period from 9:30 a.m. EDT on March 31, 2015 through 11:59 p.m. EDT on April 14, 2015.

By the Commission.
Jill M. Peterson,
Assistant Secretary.

[FR Doc. 2015-07674 Filed 3-31-15; 4:15 pm]

BILLING CODE CODE 8011-01-P